DEPARTMENT OF JUSTICE

Antitrust Division

Notice Pursuant to the National Cooperative Research and Production Act of 1993—The Aluminum Association, Inc.

Notice is hereby given that, on September 20, 2004, pursuant to section 6(a) of the National Cooperative Research and Production Act of 1993, 15 U.S.C. 4301 et seq. (“the Act”), The Aluminum Association, Inc., (“the Aluminum Association”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The Aluminum Association, Inc., Washington, DC. The nature and scope of the Aluminum Association's standards development activities are: to review all proposals or recommendations regarding revisions, additions, or deletions to the alloy and Temper Designation Systems for Aluminum (ANSI H35.1 and .1(m)), Dimensional Tolerances for Aluminum Mill Products (ANSI H35.2 and .2(M)), the Designation System for Aluminum Hardeners (ANSI H35.3), the Designation System for Unalloyed Aluminum (ANSI H35.4) and the Nomenclature System for Aluminum Metal Matrix Composite Materials (ANSI H35.5); to encourage the use of these documents by reference in other specifications; and to develop proposals for new ANSI standards applicable to aluminum and aluminum alloy wrought and cast products.

Dorothy B. Fountain,
Deputy Director of Operations, Antitrust Division.

[FR Doc. 04-26200 Filed 11-26-04; 8:45 am]

BILLING CODE 4410-11-M